FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 17803N.

Name: Advanced Global Logistics, LLC.

Address: 535 West 34th Street, New York, NY 10001.

Date Revoked: October 5, 2002.

Reason: Failed to maintain a valid bond.

License Number: 4210F.

Name: Air Cargo Expediters Inc.

Address: 167-17 146th Road, Jamaica, NY 11434.

Date Revoked: July 24, 2002.

Reason: Failed to maintain a valid bond.

License Number: 11988N.

Name: All World Services, Inc.

Address: 8348 NW 30th Terrace, Miami, FL 33122.

Date Revoked: April 22, 2002.

Reason: Failed to maintain a valid bond.

License Number: 4363NF.

Name: DGM Services, Inc. dba Dangerous Goods

Management & DG Express.

Address: 14335-C Interdrive West, Houston, TX 77032.

Date Revoked: August 14, 2002.

Reason: Failed to maintain valid bonds.

License Number: 17642N.

Name: Direct Shipping, Corp. dba Direct Shipping Line.

Address: 9550 Flair Drive, #503, El Monte, CA 91731.

Date Revoked: September 29, 2002.

Reason : Failed to maintain a valid bond.

License Number : 2022F.

Name : Embert Shipping, Inc.

Address : 437 Marmore Avenue, Coral Gables, FL 33146.

Date Revoked : October 23, 2002.

Reason : Surrendered license voluntarily.

License Number : 16321N.

Name : Express Consolidation Systems Corp.

Address : 253 Academy Street, Jersey City, NJ 07306.

Date Revoked : September 28, 2002.

Reason : Failed to maintain a valid bond.

License Number: 10956N.

Name: F.A.R. Freight Services, Inc. dba Principal Container Line.

Address: 215 Montgomery Street, 2nd Floor, Jersey City, NJ 07302.

Date Revoked: September 25, 2002.

Reason: Failed to maintain a valid bond.

License Number : 4235N.

Name : G.S.I. Cargo Systems Inc.

Address : 55 Inip Drive, Inwood, NY 11096.

Date Revoked : June 23, 2002.

Reason : Failed to maintain a valid bond.

License Number : 16698N and 16698F.

Name: Global Total Logistics, LLC.

Address: 18411 Crenshaw Blvd., Suite 210, Torrance, CA 90504.

Date Revoked: June 15, 2002 and August 15, 2002.

Reason: Failed to maintain valid bonds.

License Number: 9867N.

Name: Harro Schumacher dba Schumacher Cargo Lines.

Address: 12821 S. Spring Street, Los Angeles, CA 90061.

Date Revoked: September 29, 2002.

Reason: Failed to maintain a valid bond.

License Number: 17520N.

Name: MedTrans LLC.

Address: 1200 Townline Road, Mundelein, IL 60060.

Date Revoked: April 15, 2002.

Reason: Surrendered license voluntarily.

License Number: 1415F.

Name: Mayflower International, Inc.

Address: One Mayflower Drive, Fenton, MO 63026.

Date Revoked: August 23, 2002.

Reason: Failed to maintain a valid bond.

License Number: 3101F.

Name: Mr. Jong Gil Kim dba Ace Freight System.

Address: 2401 Utah Avenue South, Suite 200, Seattle, WA 98134.

Date Revoked: July 13, 2002.

Reason: Failed to maintain a valid bond.

License Number: 16641NF.

Name: PMG Containerline, Inc.

Address: 7454 Brokerage Drive, Orlando, FL 32809.

Date Revoked: October 5, 2002.

Reason: Failed to maintain valid bonds.

License Number: 4326NF.

Name: Samson Transport (USA) Inc.

Address: 100 Walnut Avenue, Suite 405, Clark, NJ 07066.

Date Revoked: July 11, 2001.

Reason: Surrendered license voluntarily.

License Number: 1294N and 1294F.

Name: U.S. Express, Inc.

Address: 137-44 94th Avenue, Jamaica, NY 11435.

Date Revoked: September 1, 2002 and September 8, 2002.

Reason: Failed to maintain valid bonds.

License Number: 17613N.

Name: Utopia Logistic New York, Inc.

Address: 149-35 177th Street, #104, Jamaica, NY 11434.

Date Revoked: September 26, 2002.

Reason: Failed to maintain a valid bond.

License Number: 17724N.

Name: Vankor Logistics Int'l (U.S.A.), Inc.

Address: 1031 W. Manchester Blvd., Unit D, Inglewood, CA 90301.

Date Revoked: October 16, 2002.

Reason: Surrendered license voluntarily.

License Number: 2629F.

Name: Y.S. International Inc.

Address: 11389 SW 85 Lane, Miami, FL 33173.

Date Revoked: September 24, 2002.

Reason: Surrendered license voluntarily.

Sandra L. Kusumoto,
Director, Bureau of Consumer Complaints and Licensing.

[FR Doc. 02-27646 Filed 10-29-02; 8:45 am]

BILLING CODE 6730-01-P